DEPARTMENT OF COMMERCE

National Oceanic and Atmospheric Administration

RIN 0648-XN06

Endangered and Threatened Species; Take of Anadromous Fish

AGENCY: National Marine Fisheries Service (NMFS), National Oceanic and Atmospheric Administration (NOAA), Commerce.

ACTION: Application to renew scientific research permit.

SUMMARY: Notice is hereby given that NMFS has received one scientific research permit application request relating to Pacific salmon. The proposed research is intended to increase knowledge of species listed under the Endangered Species Act (ESA) and to help guide management and conservation efforts.

DATES: Comments or requests for a public hearing on the application must be received at the appropriate address or fax number (see ADDRESSES) no later than 5 p.m. Pacific standard time on March 11, 2009.

ADDRESSES: Written comments on the application should be sent to the Protected Resources Division, NMFS, 1201 NE Lloyd Blvd., Suite 1100, Portland, OR 97232-1274. Comments may also be sent via fax to 503-230-5441 or by e-mail to resapps.nwr@NOAA.gov.

FOR FURTHER INFORMATION CONTACT: Garth Griffin, Portland, OR (ph.: 503-231-2005, Fax: 503-230-5441, e-mail: Garth.Griffin@noaa.gov). Permit application instructions are available from the address above.

SUPPLEMENTARY INFORMATION:

Species Covered in This Notice

The following listed species are covered in this notice:

Chinook salmon (Oncorhynchus tshawytscha): threatened lower Columbia River (LCR), threatened upper Willamette River (UWR), endangered upper Columbia River (UCR), threatened Snake River (SR) spring/summer (spr/sum), threatened SR fall.

Chum salmon (O. keta): threatened Columbia River (CR).

Steelhead (O. mykiss): threatened LCR, threatened UWR, threatened middle Columbia River (MCR), threatened SR, endangered UCR, threatened PS.

Coho salmon (O. kisutch): threatened LCR, threatened Oregon Coast (OC), threatened Southern Oregon/Northern California coasts (SONCC).

Sockeye salmon (O. nerka): endangered SR.

Authority

Scientific research permits are issued in accordance with section 10(a)(1)(A) of the ESA (16 U.S.C. 1531 et seq.) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Application Received

Permit 1410 - Renewal

The Northwest Fisheries Science Center (NWFSC) is seeking to renew permit 1410 for a period of five years. The original permit was in place for five years with three modifications; it expired on December 31, 2008. Under the new permit, the NWFSC would conduct research that would annually take adult and juvenile UCR Chinook, SR spr/sum Chinook, SR fall Chinook, LCR Chinook, UWR Chinook, SR sockeye, CR chum, LCR coho, OC coho, SONCC coho, UCR steelhead, SR steelhead, MCR steelhead, LCR steelhead, and UWR steelhead in the Columbia River plume and surrounding ocean environment. The purpose of the research is to: (a) determine the abundance, distribution, growth and condition of juvenile Columbia River salmonids in the plume and nearby ocean environment and characterize the area's physical and biological features as they relate to salmonid survival; (b) determine the impact that predators and food supply have on survival among juvenile Columbia River Chinook and coho salmon as they migrate through the Columbia River estuary and plume; and (c) synthesize the early ocean ecology of juvenile Columbia River salmonids, test mechanisms that control salmonid growth and survival, and produce ecological indices that forecast salmonid survival.

Ultimately the NWFSC would use simulation models and statistical analyses of climatic, oceanic, and other biological data and indices to help inform management decisions regarding the Columbia river and its salmonid populations. The research would benefit listed species by providing data that would help managers understand the linkages between salmonid abundance, distribution, growth, genetics, and health, and the effects of disease, parasites, diet, and predation in the estuarine and ocean environment. Ultimately, the data would help researchers and managers quantify the effects of habitat restoration efforts and improve harvest and hatchery guidelines. In any case, the research would provide important information on salmonid life histories in the study area. The NWFSC proposes to capture the fish (using surface trawling), identify, sample, and release adult fish. The juvenile fish would be sacrificed to map disease presence and determine the effects that diet, parasites, genetics, etc. have on fish condition.

This notice is provided pursuant to section 10(c) of the ESA. NMFS will evaluate the application, associated documents, and comments submitted to determine whether the application meets the requirements of section 10(a) of the ESA and Federal regulations. The final permit decision will not be made until after the end of the 30-day comment period. NMFS will publish notice of its final action in the Federal Register.

Dated: February 3, 2009.
Angela Somma,
Chief, Endangered Species Division, Office of Protected Resources, National Marine Fisheries Service.

[FR Doc. E9-2659 Filed 2-6-09; 8:45 am]

BILLING CODE 3510-22-S